DEPARTMENT OF AGRICULTURE

Forest Service

Ravalli County Resource Advisory Committee

AGENCY: Forest Service, USDA.

ACTION: Notice of meeting.

SUMMARY: The Ravalli County Resource Advisory Committee will be conducting two monthly meetings for project presentations and will hold a short public forum (question and answer session). The meetings are being held pursuant to the authorities in the Federal Advisory Committee Act (Pub. L. 106-939) and under the Secure Rural Schools and Community Self-Determination Act of 2000 (Pub. L. 106-393). The meetings are open to the public.

DATES: The meetings will be held on April 27-28, 2009, 6:30 p.m.

ADDRESSES: The meetings will be held at the Bitterroot National Forest, Supervisor Office, Conference Room, 1801 North First Street, Hamilton, Montana. Send written comments to Daniel Ritter, District Ranger, Stevensville Ranger District, 88 Main Street, Stevensville, MT 59870, by facsimile (406) 777-7423, or electronically to dritter@fs.fed.us.

FOR FURTHER INFORMATION CONTACT: Daniel Ritter, Stevensville District Ranger and Designated Federal Officer, Phone: (406) 777-5461.

Dated: April 8, 2009.
Julie K. King,
Deputy Forest Supervisor.

[FR Doc. E9-8469 Filed 4-14-09; 8:45 am]

BILLING CODE 3410-16-P